ENVIRONMENTAL PROTECTION AGENCY

40 CFR Part 300

[EPA-HQ-SFUND-2002-0008; FRL-10008-19-Region 8]

National Oil and Hazardous Substances Pollution Contingency Plan; National Priorities List: Partial Deletion of the Libby Asbestos Superfund Site

AGENCY: Environmental Protection Agency.

ACTION: Final rule; partial deletion.

SUMMARY: The Environmental Protection Agency (EPA) Region 8 announces the deletion of the Operable Unit 1 (OU1), Former Export Plant of the Libby Asbestos Superfund Site (Site) located in Lincoln County, Montana, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to OU1. Operable Unit 2 (OU2), Former Screening Plant, was deleted from the NPL on April 10, 2019. Operable Unit 3 (OU3), Former Vermiculite Mine; Operable Unit 4 and Operable Unit 7 (OU4/OU7), Residential/Commercial Properties of Libby and Troy; Operable Unit 5 (OU5), Former Stimson Lumber Mill; Operable Unit 6 (OU6), BNSF Rail Corridor; and Operable Unit 8 (OU8), Highways and Roadways, are not being considered for deletion as part of this proposed action and will remain on the NPL. The EPA and the State of Montana, through the Montana Department of Environmental Quality, have determined that all appropriate response actions under CERCLA, other than operation and maintenance, monitoring and five-year reviews, have been completed. However, the deletion of these parcels does not preclude future actions under Superfund.

DATES: This action is effective May 26, 2020.

ADDRESSES: EPA has established a docket for this action under Docket Identification No. EPA-HQ-SFUND-2002-0008. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available electronically in http://www.regulations.gov; by calling EPA Region 8 at (303) 312-7279 and leaving a message; and at the EPA Info Center, 108 E 9th Street, Libby, MT 59923, (406) 293-6194, Monday through Thursday from 8:00 a.m.-4:00 p.m.

FOR FURTHER INFORMATION CONTACT: Dania Zinner, Remedial Project Manager, U.S. Environmental Protection Agency, Region 8, 1595 Wynkoop Street, Mailcode: 8SEM-RB, Denver, CO 80202-1129, email: zinner.dania@epa.gov.

SUPPLEMENTARY INFORMATION: The portion of the site to be deleted from the NPL is: OU1, Lincoln County, MT. A Notice of Intent for Partial Deletion for this Site was published in the Federal Register (85 FR 4249) on January 24, 2020.

The closing date for comments on the Notice of Intent for Partial Deletion was February 24, 2020. Two public comments were received. The comments did not object to the deletion; they highlighted management of institutional controls and updating the operations and maintenance plan as appropriate in the future. EPA believes the partial deletion action is appropriate. A responsiveness summary was prepared and placed in both the docket, EPA-HQ-SFUND-2002-0008, on www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(c)(2); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: April 29, 2020.
Gregory Sopkin,
Regional Administrator, EPA Region 8.

[FR Doc. 2020-09563 Filed 5-22-20; 8:45 am]

BILLING CODE 6560-50-P